DEPARTMENT OF ENERGY

Federal Energy Regulatory Commission

Combined Notice of Filings #2

Take notice that the Commission received the following electric rate filings:

Docket Numbers: ER25-750-000.

Applicants: Tri-State Generation and Transmission Association, Inc.

Description: Refund Report: Refund Report to be effective N/A.

Filed Date: 5/16/25.

Accession Number: 20250516-5190.

Comment Date: 5 p.m. ET 6/6/25.

Docket Numbers: ER25-2248-000.

Applicants: Alabama Power Company, Georgia Power Company, Mississippi Power Company.

Description: Tariff Amendment: Alabama Power Company submits tariff filing per 35.15: Deatsville Solar LGIA. Termination Filing to be effective 5/16/2025.

Filed Date: 5/16/25.

Accession Number: 20250516-5111.

Comment Date: 5 p.m. ET 6/6/25.

Docket Numbers: ER25-2249-000.

Applicants: Reworld SEMASS Limited Partnership.

Description: § 205(d) Rate Filing: Notice of Succession to be effective 7/16/2025.

Filed Date: 5/16/25.

Accession Number: 20250516-5191.

Comment Date: 5 p.m. ET 6/6/25.

Docket Numbers: ER25-2250-000.

Applicants: Reworld Delaware Valley, LLC.

Description: § 205(d) Rate Filing: Notice of Succession (MBR) to be effective 7/16/2024.

Filed Date: 5/16/25.

Accession Number: 20250516-5192.

Comment Date: 5 p.m. ET 6/6/25.

Docket Numbers: ER25-2251-000.

Applicants: Reworld Delaware Valley, LLC.

Description: § 205(d) Rate Filing: Notice of Succession (Reactive) to be effective 7/16/2025.

Filed Date: 5/16/25.

Accession Number: 20250516-5193.

Comment Date: 5 p.m. ET 6/6/25.

Docket Numbers: ER25-2252-000.

Applicants: Greer Solar, LLC.

Description: § 205(d) Rate Filing: Application for Market-Based Rate Authorization to be effective 7/16/2025.

Filed Date: 5/16/25.

Accession Number: 20250516-5195.

Comment Date: 5 p.m. ET 6/6/25.

Docket Numbers: ER25-2253-000.

Applicants: Mondu Solar, LLC.

Description: § 205(d) Rate Filing: Application for Market-Based Rate Authorization—Mondu Solar, LLC to be effective 7/16/2025.

Filed Date: 5/16/25.

Accession Number: 20250516-5196.

Comment Date: 5 p.m. ET 6/6/25.

Docket Numbers: ER25-2254-000.

Applicants: Singer Solar, LLC.

Description: § 205(d) Rate Filing: Application for Market-Based Rate Authorization—Singer Solar, LLC to be effective 7/16/2025.

Filed Date: 5/16/25.

Accession Number: 20250516-5197.

Comment Date: 5 p.m. ET 6/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 16, 2025.
Debbie-Anne A. Reese,
Secretary.

[FR Doc. 2025-09240 Filed 5-21-25; 8:45 am]

BILLING CODE 6717-01-P